ENVIRONMENTAL PROTECTION AGENCY

40 CFR Part 52

[GA-2017; FRL-9965-15-Region 4]

Air Plan Approval; Georgia; Update to Materials Incorporated by Reference

AGENCY: Environmental Protection Agency (EPA).

ACTION: Final rule; notice of administrative change.

SUMMARY: The Environmental Protection Agency (EPA) is updating the materials that are incorporated by reference (IBR) into the Georgia state implementation plan (SIP). The regulations affected by this update have been previously submitted by Georgia and approved by EPA. This update affects the materials that are available for public inspection at the National Archives and Records Administration (NARA) and the EPA Regional Office.

DATES: This action is effective August 31, 2017.

ADDRESSES: SIP materials which are incorporated by reference into 40 CFR part 52 are available for inspection at the following locations: Environmental Protection Agency, Region 4, 61 Forsyth Street SW., Atlanta, GA 30303; and the National Archives and Records Administration. For information on the availability of this material at NARA, call 202-741-6030, or go to: http://www.archives.gov/federal-register/cfr/ibr-locations.html. To view the materials at the Region 4 Office, EPA requests that you email the contact listed in the FOR FURTHER INFORMATION CONTACT section.

FOR FURTHER INFORMATION CONTACT: Sean Lakeman, Air Regulatory Management Section, Air Planning and Implementation Branch, Air, Pesticides and Toxics Management Division, U.S. Environmental Protection Agency, Region 4, 61 Forsyth Street SW., Atlanta, Georgia 30303-8960. Mr. Lakeman can be reached via telephone at (404) 562-9043 or via electronic mail at lakeman.sean@epa.gov.

SUPPLEMENTARY INFORMATION:

I. Background

Each state has a SIP containing the control measures and strategies used to attain and maintain the national ambient air quality standards (NAAQS). The SIP is extensive, containing such elements as air pollution control regulations, emission inventories, monitoring networks, attainment demonstrations, and enforcement mechanisms.

Each state must formally adopt the control measures and strategies in the SIP after the public has had an opportunity to comment on them and then submit the proposed SIP revisions to EPA. Once these control measures and strategies are approved by EPA, and after notice and comment, they are incorporated into the federally-approved SIP and are identified in part 52 “Approval and Promulgation of Implementation Plans,” title 40 of the Code of Federal Regulations (40 CFR part 52). The full text of the state regulation approved by EPA is not reproduced in its entirety in 40 CFR part 52, but is “incorporated by reference.” This means that EPA has approved a given state regulation with a specific effective date. The public is referred to the location of the full text version should they want to know which measures are contained in a given SIP. The information provided allows EPA and the public to monitor the extent to which a state implements a SIP to attain and maintain the NAAQS and to take enforcement action if necessary.

The SIP is a living document which the state can revise as necessary to address the unique air pollution problems in the state. Therefore, EPA from time to time must take action on proposed revisions containing new and/or revised state regulations. A submission from a state can revise one or more rules in their entirety or portions of rules, or even change a single word. The state indicates the changes in the submission (such as, by using redline/strikethrough) and EPA then takes action on the requested changes. EPA establishes a docket for its actions using a unique Docket Identification Number, which is listed in each action. These dockets and the complete submission are available for viewing on www.regulations.gov.

On May 22, 1997 (62 FR 27968), EPA revised the procedures for incorporating by reference, into the Code of Federal Regulations, materials approved by EPA into each state SIP. These changes revised the format for the identification of the SIP in 40 CFR part 52, streamlined the mechanisms for announcing EPA approval of revisions to a SIP, and streamlined the mechanisms for EPA's updating of the IBR information contained for each SIP in 40 CFR part 52. The revised procedures also called for EPA to maintain “SIP Compilations” that contain the federally-approved regulations and source specific permits submitted by each state agency. These SIP Compilations are contained in 3-ring binders and are updated primarily on an annual basis. Under the revised procedures, EPA must periodically publish an informational document in the rules section of the Federal Register notifying the public that updates have been made to a SIP Compilation for a particular state. EPA applied the 1997 revised procedures to Georgia on May 21, 1999 (64 FR 27699).

II. EPA Action

This action represents EPA's publication of the Georgia SIP Compilation update, appearing in 40 CFR part 52. In addition, notice is provided of the following corrections to Table (c) of section 52.570, as described below:

A. Under the “State effective date” and “EPA approval date” changing the 2-digit year to reflect a 4-digit year (for consistency) and correcting numerous CFR citations to reflect the first page of the preamble as opposed to the regulatory text page.

B. 391-3-1-.02(2)(c): State effective date is revised to read “8/9/2012” and EPA approval date is revised to read “4/9/2013, 78 FR 21065”.

C. 391-3-1-.02(2)(m): Entry is removed from the table because EPA previously approved removal of this provision from the SIP. See 40 FR 45817 (October 3, 1975).

D. 391-3-1-.02(2)(ss): Title/subject is revised to read “Gasoline Transport Vehicles and Vapor Collection Systems”.

E. 391-3-1-.02(2)(ww): Entry is removed from the table because EPA previously approved removal of this provision from the SIP. See 61 FR 33372 (June 27, 1996).

F. 391-3-1-.02(2)(jjj): State effective date is revised to read “3/12/2007” and EPA approval date is revised to read “11/27/2009, 74 FR 62249”.

G. 391-3-1-.02(2)(lll): State effective date is revised to read “4/12/2009” and EPA approval date is revised to read “9/28/2012, 77 FR 59554”.

H. 391-3-1-.02(6): State effective date is revised to read “3/12/2007” and EPA approval date is revised to read “11/27/2009, 74 FR 62249”.

I. 391-3-1-.02(7): To remove previously-approved typographical error, the entry is revised to read “As of 4/9/13 EPA is approving a revision to 391-3-1.02(7) to incorporate by reference the version of 40 CFR 52.21 as of July 20, 2011, with the exception of the PM2.5 SMC and SILs thresholds and provisions promulgated in the October 20, 2010 PM2.5 PSD Increment-SILs-SMC Rule at 40 CFR 52.21(i)(5) and (k)(2), respectively. See 78 FR 21065.”

J. 391-3-1-.02(12): State effective date is revised to read “7/25/2007” and EPA approval date is revised to read “11/27/2009, 74 FR 62249”.

K. 391-3-22: entry is removed from table because the rule was moved to the Non-Regulatory Provisions.

III. Good Cause Exemption

EPA has determined that this action falls under the “good cause” exemption in the section 553(b)(3)(B) of the Administrative Procedure Act (APA) which, upon finding “good cause,” authorizes agencies to dispense with public participation and section 553(d)(3) which allows an agency to make an action effective immediately (thereby avoiding the 30-day delayed effective date otherwise provided for in the APA). This administrative action simply codifies provisions which are already in effect as a matter of law in Federal and approved state programs and corrects typographical errors appearing in the Federal Register. Under section 553 of the APA, an agency may find good cause where procedures are “impracticable, unnecessary, or contrary to the public interest.” Public comment for this administrative action is “unnecessary” and “contrary to the public interest” since the codification (and typographical corrections) only reflect existing law. Immediate notice of this action in the Federal Register benefits the public by providing the public notice of the updated Georgia SIP Compilation and notice of typographical corrections to the Georgia “Identification of Plan” portion of the Federal Register.

IV. Incorporation by Reference

In this rule, EPA is finalizing regulatory text that includes incorporation by reference. In accordance with requirements of 1 CFR 51.5, EPA is finalizing the incorporation by reference of previously EPA-approved regulations promulgated by Georgia and federally-effective prior to January 1, 2017. Therefore, these materials have been approved by EPA for inclusion in the SIP, have been incorporated by reference by EPA into that plan, are fully federally-enforceable under sections 110 and 113 of the CAA as of the effective date of the final rulemaking of EPA's approval, and will be incorporated by reference by the Director of the Federal Register in the next update to the SIP compilation.¹ EPA has made, and will continue to make, these materials generally available through www.regulations.gov and/or at the EPA Region 4 Office (please contact the person identified in the FOR FURTHER INFORMATION CONTACT section of this preamble for more information).

¹ See 62 FR 27968 (May 22, 1997).

V. Statutory and Executive Order Reviews

Under the CAA, the Administrator is required to approve a SIP submission that complies with the provisions of the Act and applicable federal regulations. See 42 U.S.C. 7410(k); 40 CFR 52.02(a). Thus, in reviewing SIP submissions, EPA's role is to approve state choices, provided that they meet the criteria of the CAA. Accordingly, this notice of administrative change does not impose additional requirements beyond those imposed by state law. For that reason, this action:

• is not a “significant regulatory action” subject to review by the Office of Management and Budget under Executive Orders 12866 (58 FR 51735, October 4, 1993) and 13563 (76 FR 3821, January 21, 2011);

• does not impose an information collection burden under the provisions of the Paperwork Reduction Act (44 U.S.C. 3501 et seq.);

• is certified as not having a significant economic impact on a substantial number of small entities under the Regulatory Flexibility Act (5 U.S.C. 601 et seq.);

• does not contain any unfunded mandate or significantly or uniquely affect small governments, as described in the Unfunded Mandates Reform Act of 1995 (Pub. L. 104-4);

• does not have Federalism implications as specified in Executive Order 13132 (64 FR 43255, August 10, 1999);

• is not an economically significant regulatory action based on health or safety risks subject to Executive Order 13045 (62 FR 19885, April 23, 1997);

• is not a significant regulatory action subject to Executive Order 13211 (66 FR 28355, May 22, 2001);

• is not subject to requirements of Section 12(d) of the National Technology Transfer and Advancement Act of 1995 (15 U.S.C. 272 note) because application of those requirements would be inconsistent with the CAA; and

• does not provide EPA with the discretionary authority to address, as appropriate, disproportionate human health or environmental effects, using practicable and legally permissible methods, under Executive Order 12898 (59 FR 7629, February 16, 1994).

The SIP is not approved to apply on any Indian reservation land or in any other area where EPA or an Indian tribe has demonstrated that a tribe has jurisdiction. In those areas of Indian country, the rule does not have tribal implications as specified by Executive Order 13175 (65 FR 67249, November 9, 2000), nor will it impose substantial direct costs on tribal governments or preempt tribal law.

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this action and other required information to the U.S. Senate, the U.S. House of Representatives, and the Comptroller General of the United States prior to publication of the rule in the Federal Register. A major rule cannot take effect until 60 days after it is published in the Federal Register. This action is not a “major rule” as defined by 5 U.S.C. 804(2).

EPA also believes that the provisions of section 307(b)(1) of the CAA pertaining to petitions for judicial review are not applicable to this action. This is because prior EPA rulemaking actions for each individual component of the Georgia SIP compilations previously afforded interested parties the opportunity to file a petition for judicial review in the United States Court of Appeals for the appropriate circuit within 60 days of such rulemaking action. Thus, EPA believes judicial review of this action under section 307(b)(1) of the CAA is not available.

List of Subjects in 40 CFR Part 52

Environmental protection, Air pollution control, Carbon monoxide, Incorporation by reference, Intergovernmental relations, Lead, Nitrogen dioxide, Ozone, Particulate matter, Reporting and recordkeeping requirements, Sulfur oxides, Volatile organic compounds.

Dated: July 7, 2017.
V. Anne Heard,
Acting Regional Administrator, Region 4.

40 CFR part 52 is amended as follows:

PART 52—APPROVAL AND PROMULGATION OF IMPLEMENTATION PLANS

1. The authority for citation for part 52 continues to read as follows:

Authority: 42 U.S.C. 7401 et seq.

Subpart L—Georgia

2. Section 52.570(b) and (c) are revised to read as follows:

§ 52.570 Identification of plan.

* * * * *

(b) Incorporation by reference. (1) Material listed in paragraph (c) and (d) of this section with an EPA approval date prior to January 1, 2017, for Georgia was approved for incorporation by reference by the Director of the Federal Register in accordance with 5 U.S.C. 552(a) and 1 CFR part 51. Material is incorporated as it exists on the date of the approval, and notice of any change in the material will be published in the Federal Register. Entries in paragraph (c) and (d) of this section with EPA approval dates after January 1, 2017, for Georgia will be incorporated by reference in the next update to the SIP compilation.

(2) EPA Region 4 certifies that the rules/regulations provided by EPA in the SIP compilation at the addresses in paragraph (b)(3) of this section are an exact duplicate of the officially promulgated State rules/regulations which have been approved as part of the State Implementation Plan as of the dates referenced in paragraph (b)(1) of this section.

(3) Copies of the materials incorporated by reference may be inspected at the Region 4 EPA Office at 61 Forsyth Street SW., Atlanta, GA 30303. To obtain the material, please call (404) 562-9022. You may inspect the material with an EPA approval date prior to January 1, 2017, for Georgia at the National Archives and Records Administration. For information on the availability of this material at NARA go to: http://www.archives.gov/federal-register/cfr/ibr-locations.html.

(c) EPA approved Georgia regulations.

EPA-Approved Georgia Regulations
State citation | Title/subject | State effective date | EPA approval date | Explanation
391-3-1-.01 | Definitions | 8/14/2016 | 1/5/2017, 82 FR 1206 |
Provisions
391-3-1-.02:
391-3-1-.02(1) | General Requirements | 3/20/1979 | 9/18/1979, 44 FR 54047 |
Emission Standards
391-3-1-.02(2):
391-3-1-.02(2)(a) | General Provisions | 3/7/2012 | 9/28/2012, 77 FR 59554 | Except for paragraph 391-3-1-.02(2)(a)1 (as approved on 3/16/06).
391-3-1-.02(2)(b) | Visible Emissions | 1/17/1979 | 9/18/1979, 44 FR 54047.
391-3-1-.02(2)(c) | Incinerators | 8/9/2012 | 4/9/2013, 78 FR 21065.
391-3-1-.02(2)(d) | Fuel-burning Equipment | 7/20/2005 | 2/9/2009, 75 FR 6309.
391-3-1-.02(2)(e) | Particulate Emission from Manufacturing Processes | 1/17/1979 | 9/18/1979, 44 FR 54047.
391-3-1-.02(2)(f) | Normal Superphosphate Manufacturing Facilities | 1/17/1979 | 9/18/1979, 44 FR 54047.
391-3-1-.02(2)(g) | Sulfur Dioxide | 7/17/2002 | 7/9/2003, 68 FR 40786.
391-3-1-.02(2)(h) | Portland Cement Plants | 1/17/1979 | 9/18/1979, 44 FR 54047.
391-3-1-.02(2)(i) | Nitric Acid Plants | 1/17/1979 | 9/18/1979, 44 FR 54047.
391-3-1-.02(2)(j) | Sulfuric Acid Plants | 1/17/1979 | 9/18/1979, 44 FR 54047.
391-3-1-.02(2)(k) | Particulate Emission from Asphaltic Concrete Hot Mix Plants | 1/17/1979 | 9/18/1979, 44 FR 54047.
391-3-1-.02(2)(l) | Conical Burners | 1/17/1979 | 9/18/1979, 44 FR 54047.
391-3-1-.02(2)(n) | Fugitive Dust | 1/17/1979 | 9/18/1979, 44 FR 54047.
391-3-1-.02(2)(o) | Cupola Furnaces for Metallurgical Melting | 1/27/1972 | 5/31/1972, 37 FR 10842.
391-3-1-.02(2)(p) | Particulate Emissions from Kaolin and Fuller's Earth Processes | 12/16/1975 | 8/20/1976, 41 FR 35184.
391-3-1-.02(2)(q) | Particulate Emissions from Cotton Gins | 1/27/1972 | 5/31/1972, 37 FR 10842.
391-3-1-.02(2)(r) | Particulate Emissions from Granular and Mixed Fertilizer Manufacturing Units | 1/27/1972 | 5/31/1972, 37 FR 10842.
391-3-1-.02(2)(t) | VOC Emissions from Automobile and Light Duty Truck Manufacturing | 3/7/2012 | 9/28/2012, 77 FR 59554.
391-3-1-.02(2)(u) | VOC Emissions from Can Coating | 9/16/1992 | 9/28/2012, 77 FR 59554.
391-3-1-.02(2)(v) | VOC Emissions from Coil Coating. | 9/16/1992 | 9/28/2012, 77 FR 59554.
391-3-1-.02(2)(w) | VOC Emissions from Paper Coating | 3/7/2012 | 9/28/2012, 77 FR 59554.
391-3-1-.02(2)(x) | VOC Emissions from Fabric and Vinyl Coating | 9/16/1992 | 9/28/2012, 77 FR 59554.
391-3-1-.02(2)(y) | VOC Emissions from Metal Furniture Coating | 3/7/2012 | 9/28/2012, 77 FR 59554.
391-3-1-.02(2)(z) | VOC Emissions from Large Appliance Surface Coating. | 3/7/2012 | 9/28/2012, 77 FR 59554.
391-3-1-.02(2)(aa) | VOC Emissions from Wire Coating | 9/16/1992 | 9/28/2012, 77 FR 59554.
391-3-1-.02(2)(bb) | Petroleum Liquid Storage | 1/9/1991 | 10/13/1992, 57 FR 46780.
391-3-1-.02(2)(cc) | Bulk Gasoline Terminals | 1/9/1991 | 10/13/1992, 57 FR 46780.
391-3-1-.02(2)(dd) | Cutback Asphalt | 1/17/1979 | 9/18/1979, 44 FR 54047.
391-3-1-.02(2)(ee) | Petroleum Refinery | 1/9/1991 | 10/13/1992, 57 FR 46780.
391-3-1-.02(2)(ff) | Solvent Metal Cleaning | 5/29/1996 | 4/26/1999, 64 FR 20186.
391-3-1-.02(2)(gg) | Kraft Pulp Mills | 6/3/1988 | 9/30/1988, 53 FR 38290.
391-3-1-.02(2)(hh) | Petroleum Refinery Equipment Leaks | 6/24/1994 | 2/2/1996, 61 FR 3817.
391-3-1-.02(2)(ii) | VOC Emissions from Surface Coating of Miscellaneous Metal Parts and Products | 3/7/2012 | 9/28/2012, 77 FR 59554.
391-3-1-.02(2)(jj) | VOC Emissions from Surface Coating of Flat Wood Paneling | 3/7/2012 | 9/28/2012, 77 FR 59554.
391-3-1-.02(2)(kk) | VOC Emissions from Synthesized Pharmaceutical Manufacturing | 12/18/1980 | 11/24/1981, 46 FR 57486.
391-3-1-.02(2)(ll) | VOC Emissions from the Manufacture of Pneumatic Rubber Tires | 12/18/1980 | 11/24/1981, 46 FR 57486.
391-3-1-.02(2)(mm) | VOC Emissions from Graphic Arts Systems | 3/7/2012 | 9/28/2012, 77 FR 59554.
391-3-1-.02(2)(nn) | VOC Emissions from External Floating Roof Tanks | 12/18/1980 | 11/24/1981, 46 FR 57486.
391-3-1-.02(2)(oo) | Fiberglass Insulation Manufacturing Plants | 12/18/1980 | 11/24/1981, 46 FR 57486.
391-3-1-.02(2)(pp) | Bulk Gasoline Plants | 6/8/2008 | 9/28/2012, 77 FR 59554.
391-3-1-.02(2)(qq) | VOC Emissions from Large Petroleum Dry Cleaners | 4/3/1991 | 10/13/1992, 57 FR 46780.
391-3-1-.02(2)(rr) | Gasoline Dispensing Facilities—Stage I | 6/8/2008 | 9/28/2012, 77 FR 59554.
391-3-1-.02(2)(ss) | Gasoline Transport Vehicles and Vapor Collection Systems | 6/8/2008 | 9/28/2012, 77 FR 59554.
391-3-1-.02(2)(tt) | VOC Emissions from Major Sources | 6/8/2008 | 9/28/2012, 77 FR 59554.
391-3-1-.02(2)(uu) | Visibility Protection | 10/31/1985 | 1/28/1986, 51 FR 3466.
391-3-1-.02(2)(vv) | Volatile Organic Liquid Handling and Storage | 4/12/2009 | 9/28/2012, 77 FR 59554.
391-3-1-.02(2)(yy) | Emissions of Nitrogen Oxides from Major Sources | 4/12/2009 | 9/28/2012, 77 FR 59554.
391-3-1-.02(2)(ccc). | VOC Emissions from Bulk Mixing Tanks | 4/12/2009 | 9/28/2012, 77 FR 59554.
391-3-1-.02(2)(ddd) | VOC Emissions from Offset Lithography and Letterpress | 3/7/2012 | 9/28/2012, 77 FR 59554.
391-3-1-.02(2)(eee) | VOC Emissions from expanded Polystyrene Products Manufacturing | 4/12/2009 | 9/28/2012, 77 FR 59554.
391-3-1-.02(2)(fff) | Particulate Matter Emissions from Yarn Spinning Operations | 6/15/1998 | 12/2/1999, 64 FR 67491.
391-3-1-.02(2)(hhh) | Wood Furniture Finishing and Cleaning Operations | 4/12/2009 | 9/28/2012, 77 FR 59554.
391-3-1-.02(2)(jjj) | NOX Emissions from Electric Utility Steam Generating Units | 3/12/2007 | 11/27/2009, 74 FR 62249.
391-3-1-.02(2)(kkk) | VOC Emissions from Aerospace Manufacturing and Rework Facilities | 4/12/2009 | 9/28/2012, 77 FR 59554.
391-3-1-.02(2)(lll) | NOX Emissions from Fuel-burning Equipment | 4/12/2009 | 9/28/2012, 77 FR 59554.
391-3-1-.02(2)(mmm) | NOX Emissions from Stationary Gas Turbines and Stationary Engines used to Generate Electricity | 5/4/2014 | 9/1/2015, 80 FR 52627.
391-3-1-.02(2)(nnn) | NOX Emissions from Large Stationary Gas Turbines | 2/16/2000 | 7/10/2001, 66 FR 35906.
391-3-1-.02(2)(ooo) | Heavy-Duty Diesel Engine Requirements | 12/28/2001 | 7/11/2002, 67 FR 45909.
391-3-1-.02(2)(rrr) | NOX Emissions from Small Fuel-Burning Equipment | 4/12/2009 | 9/28/2012, 77 FR 59554.
391-3-1-.02(2)(vvv) | VOC Emissions from Coating Miscellaneous Plastic Parts and Products | 3/7/2012 | 9/28/2012, 77 FR 59554.
391-3-1-.02(2)(yyy) | VOC Emissions from the use of Miscellaneous Industrial Adhesives | 3/7/2012 | 9/28/2012, 77 FR 59554.
391-3-1-.02(2)(zzz) | VOC Emissions from Fiberglass Boat Manufacturing | 3/7/2012 | 9/28/2012, 77 FR 59554.
391-3-1-.02(2)(aaaa) | Industrial Cleaning Solvents | 3/7/2012 | 9/28/2012, 77 FR 59554.
391-3-1-.02(3) | Sampling | 6/15/1998 | 12/2/1999, 64 FR 67491.
391-3-1-.02(4) | Ambient Air Standards | 10/14/2014 | 7/31/2015, 80 FR 45609.
391-3-1-.02(5) | Open Burning | 7/13/2006 | 2/9/2009, 75 FR 6309.
391-3-1-.02(6) | Source Monitoring | 3/12/2007 | 11/27/2009, 74 FR 62249.
391-3-1-.02(7) | Prevention of Significant Deterioration of Air Quality (PSD) | 8/9/2012 | 4/9/2013, 78 FR 21065 | As of 4/9/13 EPA is approving a revision to 391-3-1-.02(7) to incorporate by reference the version of 40 CFR 52.21 as of July 20, 2011, with the exception of the PM2.5 SMC and SILs thresholds and provisions promulgated in the October 20, 2010 PM2.5 PSD Increment-SILs-SMC Rule at 40 CFR 52.21(i)(5) and (k)(2) respectively.
|  |  |  | On September 9, 2011 Georgia's PSD Rule 391-3-1-.02(7) incorporates by reference the regulations found at 40 CFR 52.21 as of June 3, 2010, with changes. This EPA action is approving the incorporation by reference with the exception of the following provisions: (1) The provisions amended in the Ethanol Rule which exclude facilities that produce ethanol through a natural fermentation process from the definition of “chemical process plants” in the major NSR source permitting program found at 40 CFR 52.21(b)(1)(i)(a) and (b)(1)(iii)(t); and (2) the administrative regulations amended in the Fugitive Emissions Rule. Additionally, this EPA action is not approving the “automatic rescission clause” provision at 391-3-1.02(7)(a)2.(iv). This rule contains NOX as a precursor to ozone for PSD and NSR.
391-3-1.02(11) | Compliance Assurance Monitoring | 6/15/1998 | 12/2/1999, 64 FR 67491.
391-3-1-.02(12) | Clean Air Interstate Rule NOX Annual Trading Program | 7/25/2007 | 11/27/2009, 74 FR 62249.
391-3-1-.02(13) | Clean Air Interstate Rule SO2 Annual Trading Program | 2/28/2007 | 10/9/2007, 72 FR 57202.
391-3-1-.03 | Permits | 8/9/2012 | 4/9/2013, 78 FR 21065 | Changes specifically to (8)—Permit Requirements.
391-3-1-.04 | Air Pollution Episodes | 11/20/1975 | 8/20/1976, 41 FR 35184.
391-3-1-.07 | Inspections and Investigations | 11/20/1975 | 8/20/1976, 41 FR 35184.
391-3-1-.08 | Confidentiality of information | 11/20/1975 | 8/20/1976, 41 FR 35184.
391-3-1-.09 | Enforcement | 11/22/1992 | 2/2/1996, 61 FR 3819.
391-3-1-.10 | Continuance of Prior Rules | 11/22/1992 | 2/2/1996, 61 FR 3819.
391-3-1-.15 | Georgia Transportation Conformity and Consultation Interagency Rule | 10/6/2010 | 6/15/2012, 77 FR 35866..
391-3-20 | Enhanced Inspection and Maintenance | 12/28/2008 | 4/17/2009, 74 FR 17783.

* * * * *

[FR Doc. 2017-18218 Filed 8-30-17; 8:45 am]

BILLING CODE 6560-50-P